DEPARTMENT OF EDUCATION

Notice of Proposed Information Collection Requests; Institute of Education Sciences; What Works Clearinghouse

SUMMARY: The What Works Clearinghouse (WWC) was established to develop, maintain, and make accessible a system of high-quality reviews of studies of the effectiveness of education-related interventions.

DATES: Interested persons are invited to submit comments on or before July 30, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04867. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: What Works Clearinghouse.

OMB Control Number: 1850-0788.

Type of Review: Extension.

Total Estimated Number of Annual Responses: 580.

Total Estimated Number of Annual Burden Hours: 163.

Abstract: The What Works Clearinghouse (WWC) was established to develop, maintain, and make accessible a system of high-quality reviews of studies of the effectiveness of education-related interventions. In support of this effort, the WWC currently collects information from users including nominations for studies, interventions, and topics to review, as well as evaluator and randomized controlled trials information. Primary members of the affected public include individuals or households. Information from the submissions will be used to further the work of the WWC in reviewing studies and interventions, developing topic areas and practice guides, and populating the Registry of Evaulation Reserachers and Registry of Randomized Controlled Trials for the WWC.

Dated: May 23, 2012.
Tomakie Washington,
Acting Director, Information Collection Clearance Division, Privacy, Information and Records Management Services, Office of Management.

[FR Doc. 2012-12942 Filed 5-25-12; 8:45 am]

BILLING CODE 4000-01-P